DEPARTMENT OF TRANSPORTATION

Federal Aviation Administration

14 CFR Part 71

[Docket No. FAA-2017-1083; Airspace Docket No. 17-ACE-13]

RIN 2120-AA66

Amendment of Class D and E Airspace; Kansas City, MO; and Revocation of Class E Airspace; Kansas City, MO

AGENCY: Federal Aviation Administration (FAA), DOT.

ACTION: Final rule.

SUMMARY: This action modifies Class D airspace at Charles B. Wheeler Downtown Airport, Kansas City, MO; removes Class E airspace designated as an extension to Class D airspace at Charles B. Wheeler Downtown Airport; and modifies Class E airspace extending upward from 700 feet above the surface at Kansas City International Airport, Kansas City, MO, and Charles B. Wheeler Downtown Airport. This action is required due to the decommissioning of the Riverside VHF omnidirectional range (VOR) facility, which provided navigation guidance for the instrument procedures to Charles B. Wheeler Downtown Airport. The VOR has been decommissioned as part of the VOR Minimum Operational Network (MON) Program. Additionally, the geographic coordinates and airport name are being updated to coincide with the FAA's aeronautical database. This action is necessary for the safety and management of instrument flight rules (IFR) operations at these airports.

DATES: Effective 0901 UTC, November 8, 2018. The Director of the Federal Register approves this incorporation by reference action under Title 1 Code of Federal Regulations part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would support IFR operations at Charles B. Wheeler Downtown Airport, and Kansas City International Airport, Kansas City, MO.

History

The FAA published a notice of proposed rulemaking in the Federal Register (83 FR 4611; February 1, 2018) for Docket No. FAA-2017-1083 to modify Class D airspace at Charles B. Wheeler Downtown Airport, Kansas City, MO; remove Class E airspace designated as an extension to Class D airspace at Charles B. Wheeler Downtown Airport; and modify Class E airspace extending upward from 700 feet above the surface at Kansas City International Airport, Kansas City, MO, and Charles B. Wheeler Downtown Airport. Interested parties were invited to participate in this rulemaking effort by submitting written comments on the proposal to the FAA. One comment was received from the Aircraft Owners and Pilots Association (AOPA). In their comment, AOPA stated that the NPRM did not comply with FAA guidance in FAA Order 7400.2L, Procedures for Handling Airspace Matters, because a graphic was not included in the docket. Additionally, AOPA encouraged the FAA to follow their guidance in the Order by making the action effective date coincidental to the sectional chart publication date.

The FAA has determined AOPA's comments raised no substantive issues with respect to the proposed changes to the airspace addressed in the NPRM. To the extent the FAA failed to follow its policy guidance reference publishing graphics in the docket and establishing the Class D airspace effective date to match the sectional chart date, we note the following.

With respect to AOPA's comment addressing graphics, FAA Order 7400.2L, paragraph 2-3-3.c. requires the official docket to include available graphics. For this airspace action, no graphics were deemed necessary or produced in the review or development of the proposed airspace amendments noted in the NPRM; therefore, no graphics were available to include in the docket.

Specific to AOPA's comment regarding the FAA already creating a graphical depiction of new or modified airspace overlaid on a Sectional Chart for quality assurance purposes, this is not correct nor required in all cases. During the airspace reviews, airspace graphics may be created, if deemed necessary, to determine if there are any terrain issues, or if cases are considered complex. However, in many cases when developing an airspace amendment proposal, a graphic is not required. It was unclear if the graphic AOPA argued was already created with a sectional chart background was actually the airspace graphic created by the Aeronautical Informational Services office in preparation of publishing the sectional charts. However, that graphic is normally created after the rulemaking determination is published.

With respect to AOPA's comment addressing effective dates, FAA Order 7400.2L, paragraph 2-3-7.a.4. states that, to the extent practicable, Class D airspace area and restricted area rules should become effective on a sectional chart date and that consideration should be given to selecting a sectional chart date that matches a 56-day en route chart cycle date. The FAA does consider publishing Class D airspace amendment effective dates to coincide with the publication of sectional charts, to the extent practicable; however, this consideration is accomplished after the NPRM comment period ends in the final rule. Substantive comments received to NPRMs, flight safety concerns, management of IFR operations at affected airports, and immediacy of required proposed airspace amendments are some of the factors that must be taken into consideration when selecting the appropriate effective date. After considering all factors, the FAA may determine that selecting an effective date that conforms to a 56-day en route chart cycle date that is not coincidental to sectional chart dates is better for the National Airspace System and its users than awaiting the next sectional chart date.

Class D and E airspace designations are published in paragraph 5000, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to title 14, Code of Federal Regulations (14 CFR) part 71:

Amends the Class D airspace at Charles B. Wheeler Downtown Airport by updating the header of the airspace legal description to Kansas City, MO, (from Kansas City Charles B. Wheeler Downtown Airport, MO) to comply with FAA Order 7400.2L; adds an extension 1.0 mile each side of the 012° bearing from the Charles B. Wheeler Downtown RWY 19 LOC from the 4.2-mile radius to 4.4 miles from the airport; adds an extension 1.0 mile each side of the 013° bearing from the airport from the 4.2-mile radius to 4.3 miles north of the airport; adds an extension 1.0 mile each side of the 215° bearing from the Charles B. Wheeler Downtown RWY 03 LOC from the 4.2-mile radius to 4.5 miles northeast of the airport; adds an extension 1.0 mile each side of the 218° bearing from the airport from the 4.2-mile radius to 5.0 miles south of the airport; and updates the geographic coordinates of the airport to coincide with the FAA's aeronautical database;

Removes the Class E airspace designated as an extension to Class D airspace at Charles B. Wheeler Downtown Airport as the airspace is no longer required; and

Amends Class E airspace extending upward from 700 feet above the surface at Kansas City, MO, by updating the header of the airspace legal description to Kansas City, MO, (from Kansas City International Airport, MO) to comply with FAA Order 7400.2L; updates the name and geographic coordinates of Charles B. Wheeler Downtown Airport (formerly Kansas City Downtown Airport) and the geographic coordinates of Sherman Army Airfield (AAF), KS, to coincide with the FAA's aeronautical database; removes the Kansas City VORTAC, DOTTE LOM, Riverside VOR/DME ILS RWY 19R localizer, ILS RWY 19 localizer, ILS RWY 1L localizer, and ILS RWY 1R localizer from the airspace description; removes all current extensions at Kansas City International Airport and Charles B. Wheeler Downtown Airport; and adds an extension 2.0 miles each side of the 215° bearing from the Charles B. Wheeler Downtown RWY 03 LOC from the 6.7-mile radius to 8.7 miles south of Charles B. Wheeler Downtown Airport.

Airspace reconfiguration is necessary due to the decommissioning of the Riverside VOR as part of the VOR MON Program and for the safety and management of IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ACE MO D Kansas City, MO [Amended]

Charles B. Wheeler Downtown Airport, MO

(Lat. 39°07′23″ N, long. 94°35′34″ W)

Charles B. Wheeler Downtown RWY 19 LOC

(Lat. 39°06′50″ N, long. 94°35′44″ W)

Charles B. Wheeler Downtown RWY 03 LOC

(Lat. 39°07′40″ N, long. 94°35′17″ W)

That airspace extending upward from the surface to and including 3,300 feet MSL within a 4.2-mile radius of Charles B. Wheeler Downtown Airport, excluding that airspace within the Kansas City, MO Class B airspace area; and within 1.0 mile each side of the 012° bearing from the Charles B. Wheeler Downtown RWY 19 LOC, extending from the 4.2-mile radius to 4.4 miles north of the airport; and within 1.0 mile each side of the 013° bearing from the airport, extending from the 4.2-mile radius to 4.3 miles north of the airport; and within 1.0 mile each side of the 215° bearing from the Charles B. Wheeler Downtown RWY 03 LOC, extending from the 4.2-mile radius to 4.5 miles south of the airport; and within 1.0 mile each side of the 218° bearing from the airport, extending from the 4.2-mile radius to 5.0 miles south of the airport.

Paragraph 6004 Class E Airspace Areas Designated as an Extension to a Class D or Class E Surface Area.

* * * * *

ACE MO E4 Kansas City Charles B. Wheeler Downtown Airport, MO [Removed]

Paragraph 6005 Class E Airspace Areas Extending Upward From 700 Feet or More Above the Surface of the Earth.

* * * * *

ACE MO E5 Kansas City, MO [Amended]

Kansas City International Airport, MO

(Lat. 39°17′51″ N, long. 94°42′50″ W)

Charles B. Wheeler Downtown Airport, MO

(Lat. 39°07′23″ N, long. 94°35′34″ W)

Charles B. Wheeler Downtown RWY 03 LOC

(Lat. 39°07′40″ N, long. 94°35′17″ W)

Sherman Army Airfield (AAF), KS

(Lat. 39°22′03″ N, long. 94°54′52″ W)

That airspace extending upward from 700 feet above the surface within a 7.6-mile radius of Kansas City International Airport; and within a 6.7-mile radius of Charles B. Wheeler Downtown Airport; and within 2.0 miles each side of the 215° bearing from the Charles B. Wheeler Downtown RWY 03 LOC, extending from the 6.7-mile radius to 8.7 miles south of Charles B. Wheeler Downtown Airport; and within a 6.5-mile radius of Sherman AAF.

Issued in Fort Worth, Texas, on July 16, 2018.
Walter Tweedy,
Acting Manager, Operations Support Group, ATO Central Service Center.

[FR Doc. 2018-16013 Filed 7-26-18; 8:45 am]

BILLING CODE 4910-13-P